DEPARTMENT OF ENERGY

Federal Energy Regulatory Commission

Notice of Commission Staff Attendance

The Federal Energy Regulatory Commission hereby gives notice that members of the Commission's staff may attend the following meetings related to the transmission planning activities of the Midwest Independent Transmission System Operator, Inc. (MISO):

MISO System Planning Committee of the Board of Directors, December 6, 2011, 4 p.m.-6 p.m., Local Time.

MISO Markets Committee of the Board of Directors, December 7, 2011, 8 a.m.-10 a.m., Local Time.

MISO Advisory Committee, December 7, 2011, 10 a.m.-4 p.m., Local Time.

MISO Board of Directors, December 8, 2011, 8:30 a.m.-10 a.m., Local Time.

The above-referenced meetings will be held at: MISO Headquarters, 720 City Center Drive, Carmel, IN 46032.

The above-referenced meetings are open to the public.

Further information may be found at www.misoenergy.org.

The discussions at the meetings described above may address matters at issue in the following proceedings:

Docket No. ER10-1791, Midwest Independent Transmission System Operator, Inc.

Docket No. ER11-3728, Midwest Independent Transmission System Operator, Inc.

Docket No. EL11-56, FirstEnergy Service Company.

Docket No. OA08-53, Midwest Independent Transmission System Operator, Inc.

Docket No. ER12-480, Midwest Independent Transmission System Operator, Inc.

Docket No. ER12-33, Midwest Independent Transmission System Operator, Inc.

Docket No. ER12-188, Midwest Independent Transmission System Operator, Inc.

Docket No. ER11-4337, Midwest Independent Transmission System Operator, Inc.

Docket No. EL11-53, Shetek Wind, Inc.

Docket No. ER12-334, Midwest Independent Transmission System Operator, Inc.

Docket No. ER12-56, Midwest Independent Transmission System Operator, Inc.

Docket No. ER12-342, Midwest Independent Transmission System Operator, Inc.

Docket No. ER12-280, Midwest Independent Transmission System Operator, Inc.

Docket No. ER11-4081, Midwest Independent Transmission System Operator, Inc.

For more information, contact Christopher Miller, Office of Energy Markets Regulation, Federal Energy Regulatory Commission at (317) 249-5936 or christopher.miller@ferc.gov.

Dated: November 29, 2011.
Kimberly D. Bose,
Secretary.

[FR Doc. 2011-31171 Filed 12-5-11; 8:45 am]

BILLING CODE 6717-01-P